DEPARTMENT OF THE INTERIOR

National Park Service

[NPS-WASO-NAGPRA-NPS0027610, PPWOCRADN0-PCU00RP14.R50000]

Notice of Intent To Repatriate Cultural Items: Birmingham Museum of Art, Birmingham, AL

AGENCY: National Park Service, Interior.

ACTION: Notice.

SUMMARY: The Birmingham Museum of Art, in consultation with the appropriate Indian Tribes or Native Hawaiian organizations, has determined that the cultural item listed in this notice meets the definition of an unassociated funerary object. Lineal descendants or representatives of any Indian Tribe or Native Hawaiian organization not identified in this notice that wish to claim these cultural items should submit a written request to the Birmingham Museum of Art. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Birmingham Museum of Art at the address in this notice by May 29, 2019.

ADDRESSES: Emily G. Hanna, Senior Curator, Birmingham Museum of Art, 2000 Rev. Abraham Woods Jr. Boulevard, Birmingham, AL 35203, telephone 205-254-2983, email ehanna@artsbma.org.

SUPPLEMENTARY INFORMATION: Notice is here given in accordance with the Native American Graves Protection and Repatriation Act (NAGPRA), 25 U.S.C. 3005, of the intent to repatriate a cultural item under the control of the Birmingham Museum of Art, Birmingham, AL, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

Sometime in the early 20th century, this cultural item was removed from a grave in Wrangell, AK. It was acquired by Axel Rasmussen before his death in 1945. In 1948, it was acquired by the Portland Art Museum (PAM). In 1955-56, the PAM deaccessioned the object and sold it to the Birmingham Museum of Art. The unassociated funerary object is a Woodzakaa (Cane), museum accession number 1956.48.218.

Based on consultation with the Central Council of the Tlingit & Haida Indian Tribes, the Birmingham Museum of Art can reasonably show that this unassociated funerary object is culturally affiliated with the Tlingit and Haida Indian Tribes.

Determinations Made by the Birmingham Museum of Art

Officials of the Birmingham Museum of Art have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and the Central Council of the Tlingit & Haida Indian Tribes.

Additional Requestors and Disposition

Lineal descendants or representatives of any Indian Tribe or Native Hawaiian organization not identified in this notice that wish to claim these cultural items should submit a written request with information in support of the claim to Emily G. Hanna, Senior Curator, Birmingham Museum of Art, 2000 Rev. Abraham Woods Jr. Boulevard, Birmingham, AL 35203, telephone (205) 254-2983, email ehanna@artsbma.org, by May 29, 2019. After that date, if no additional claimants have come forward, transfer of control of the unassociated funerary object to the Central Council of the Tlingit & Haida Indian Tribes may proceed.

The Birmingham Museum of Art is responsible for notifying the Central Council of the Tlingit & Haida Indian Tribes that this notice has been published.

Dated: April 2, 2019.
Melanie O'Brien,
Manager, National NAGPRA Program.

[FR Doc. 2019-08592 Filed 4-26-19; 8:45 am]

BILLING CODE 4312-52-P